NATIONAL FOUNDATION ON THE ARTS AND THE HUMANITIES

Arts Advisory Panel Meeting

AGENCY: National Endowment for the Arts, National Foundation on the Arts and Humanities.

ACTION: Notice of Meeting.

SUMMARY: Pursuant to Section 10(a)(2) of the Federal Advisory Committee Act (Public Law 92-463), as amended, notice is hereby given that six meetings of the Arts Advisory Panel to the National Council on the Arts will be held at the Nancy Hanks Center, 1100 Pennsylvania Avenue NW., Washington, DC 20506 (unless otherwise noted) as follows (all meetings are Eastern time and ending times are approximate):

Folk & Traditional Arts (application review): This meeting will be closed.

Dates: January 9, 2014. 9:00 a.m. to 5:30 p.m. in room 716.

Music (review of nominations): This meeting will be closed.

Dates: January 14, 2014. 10:00 a.m. to 11:15 a.m. The meeting will be held at Jazz at Lincoln Center, Ella & Louis Room, 3 Columbus Circle, 12th Floor, New York, NY 10019.

Music (application review): This meeting will be virtual and will be closed.

Dates: January 14, 2014. 11:30 a.m. to 12:30 p.m.

State & Regional (review of State Partnership Agreements): This meeting will be open.

Dates: January 15-16, 2014. From 9:30 a.m. to 5:00 p.m. on January 15th and from 9:00 a.m. to 3:30 p.m. on January 16th, in Room 716.

State & Regional (review of Regional Partnership Agreements): This meeting will be open.

Dates: January 23, 2014. 3:00 p.m. to 4:00 p.m.

Research (application review): This meeting will be virtual and will be closed.

Dates: January 29, 2014. 3:00 p.m. to 5:30 p.m.

FOR FURTHER INFORMATION CONTACT: Further information with reference to these meetings can be obtained from Ms. Kathy Plowitz-Worden, Office of Guidelines & Panel Operations, National Endowment for the Arts, Washington, DC 20506; plowitzk@arts.gov, or call 202/682-5691.

SUPPLEMENTARY INFORMATION: The closed portions of meetings are for the purpose of Panel review, discussion, evaluation, and recommendations on financial assistance under the National Foundation on the Arts and the Humanities Act of 1965, as amended, including information given in confidence to the agency. In accordance with the determination of the Chairman of February 15, 2012, these sessions will be closed to the public pursuant to subsection (c)(6) of section 552b of Title 5, United States Code.

Dated: December 13, 2013.
Kathy Plowitz-Worden,
Panel Coordinator, National Endowment for the Arts.

[FR Doc. 2013-30054 Filed 12-17-13; 8:45 am]

BILLING CODE 7537-01-P